ENVIRONMENTAL PROTECTION AGENCY

40 CFR Part 52

[EPA-R03-OAR-2009-0599; FRL-8982-5]

Approval and Promulgation of Air Quality Implementation Plans; Virginia; Revision to Clean Air Interstate Rule Sulfur Dioxide Trading Program; Withdrawal of Direct Final Rule

AGENCY: Environmental Protection Agency (EPA).

ACTION: Withdrawal of direct final rule.

SUMMARY: Due to an adverse comment, EPA is withdrawing the direct final rule to approve the timing change for the first phase of the sulfur dioxide (SO2) trading budget under the Commonwealth of Virginia's approved Clean Air Interstate Rule (CAIR) regulations. In the direct final rule published on October 22, 2009 (74 FR 54485), we stated that if we received adverse comment by November 23, 2009, the rule would be withdrawn and not take effect. EPA subsequently received an adverse comment. EPA will address the comment received in a subsequent final action based upon the proposed action also published on October 22, 2009 (74 FR 54534). EPA will not institute a second comment period on this action.

DATES: Effective Date: The direct final rule is withdrawn as of November 23, 2009.

FOR FURTHER INFORMATION CONTACT: Marilyn Powers, (215) 814-2308, or by e-mail at powers.marilyn@epa.gov.

List of Subjects in 40 CFR Part 52

Environmental protection, Air pollution control, Incorporation by reference, Sulfur oxides.

Dated: November 5, 2009.
William C. Early,
Acting Regional Administrator, Region III.

Accordingly, the addition of an entry for 9 VAC 5 Chapter 140, Part IV, Section 5-140-3400 to the table in paragraph (c) is withdrawn as of November 23, 2009.

[FR Doc. E9-27826 Filed 11-20-09; 8:45 am]

BILLING CODE 6560-50-P